JUDICIAL CONFERENCE OF THE UNITED STATES

Revision of Certain Dollar Amounts in the Bankruptcy Code Prescribed Under Section 104(a) of the Code; Correction

AGENCY: Judicial Conference of the United States.

ACTION: Notice; correction.

SUMMARY: The Judicial Conference of the United States published a document in the Federal Register on February 22, 2016, concerning adjusted dollar amounts in title 11 and title 28, United States Code. This document corrects the table attached to the notice to include a previously omitted adjusted dollar amount.

FOR FURTHER INFORMATION CONTACT: Michele Reed, Chief, Judicial Services Office, Administrative Office of the United States Courts, Washington, DC 20544, Telephone (202) 502-1800, or by email at Judicial_Services_Office@ao.uscourts.gov.

Correction

In the Federal Register of February 22, 2016, in FR Doc. 2016-03607, on page 8749, the following section of the attached table is amended to include the adjusted dollar amount in section 541(b)(10) (addition in italics):

Section 541(b)—property of the estate exclusions
(1)—in paragraph (5)(C)—education IRA funds in the aggregate | $6,225 | $6,425
(2)—in paragraph (6)(C)—pre-purchased tuition credits in the aggregate | 6,225 | 6,425
(3)—in paragraph (10)(C)—qualified ABLE program funds in the aggregate | 6,225 | 6,425

Dated: March 8, 2016.
Michele Reed,
Chief, Judicial Services Office.

[FR Doc. 2016-05638 Filed 3-11-16; 8:45 am]

BILLING CODE 2210-55-P